DEPARTMENT OF HEALTH AND HUMAN SERVICES

Substance Abuse and Mental Health Services Administration

Suspension of a Laboratory Which No Longer Meets Minimum Standards To Engage in Urine Drug Testing for Federal Agencies

AGENCY: Substance Abuse and Mental Health Services Administration, HHS.

ACTION: Notice.

SUMMARY: The Department of Health and Human Services routinely publishes a list of laboratories in the Federal Register that are currently certified to meet standards of Subpart C of the Mandatory Guidelines for Federal Workplace Drug Testing Programs (59 FR 29925) dated June 9, 1994.

This notice informs the public that the following laboratory's certification is suspended because extensive fire damage that occurred on July 9, 2004, has prevented the laboratory from testing specimens and fully participating in the National Laboratory Certification Program: Gamma-Dynacare Medical Laboratories, A Division of the Gamma-Dynacare Laboratory Partnership, 245 Pall Mall Street, London, ONT, Canada N6A 1P4.

FOR FURTHER INFORMATION CONTACT: Donna M. Bush, PhD, Division of Workplace Programs, SAMHSA/CSAP, Room 2-1035, 1 Choke Cherry Road, Rockville, Maryland 20857, 240-276-2600 (voice), 240-276-2610 (fax).

Anna Marsh,
Executive Officer, SAMHSA.

[FR Doc. 04-19840 Filed 9-2-04; 8:45 am]

BILLING CODE 4160-20-P